INTER-AMERICAN FOUNDATION

Agenda for Board of Directors' Meeting, October 1, 2004, 9:30 a.m.-1:30 p.m.

The meeting will be open except for the portion specified as a closed session as provided in 22 CFR Part 1004.4(f).

9:30 a.m. Call to Order; Welcome words for the new Board Members; Approval of the Minutes of the April 23, 2004 meeting; Resolutions in recognition of outgoing Chairman Frank D. Yturria and Vice Chair Patricia Hill Williams; Executive Session (Closed session to discuss personnel issues, as provided in 22 CFR Part 1004.4(f)).

11 a.m. President's Report

FY 2004 Accomplishments

• Public diplomacy and outreach

• Inter-agency cooperation

• The grant program

• The Haiti Program

• Corporate outreach

• Internal operations

Challenges and Opportunities for the Future

• Fulfilling the IAF mission

• IAF as trendsetter

• Is the IAF under-funded given its potential?

• Areas for improvement

• Analysis of the evaluation of 10 randomly selected grants: What have we learned?

• Highlights of the grant to Arariwa in Cuzco, Perú: Increasing crop yields through integrated community-based pest control.

12 p.m. Lunch.

12:30 p.m. Other Business of interest/concern to Board Members.

1:30 p.m. Adjournment; Office tour and meet staff.

David Valenzuela,
President.

[FR Doc. 04-21313 Filed 9-17-04; 3:17 pm]

BILLING CODE 7025-01-M